OFFICE OF PERSONNEL MANAGEMENT

Federal Prevailing Rate Advisory Committee

Virtual Public Meeting

AGENCY: Office of Personnel Management.

ACTION: Notice.

SUMMARY: According to the provisions of section 10 of the Federal Advisory Committee Act, notice is hereby given that a virtual meeting of the Federal Prevailing Rate Advisory Committee will be held on Thursday, January 9, 2025. There will be no in-person gathering for this meeting.

The Federal Prevailing Rate Advisory Committee is composed of a Chair, five representatives from labor unions holding exclusive bargaining rights for Federal prevailing rate employees, and five representatives from Federal agencies.

The Committee's primary responsibility is to review the Prevailing Rate System and other matters pertinent to establishing prevailing rates, and from time to time advise the Office of Personnel Management.

Annually, the Chair compiles a report of pay issues discussed and concluded recommendations. These reports are available to the public. Reports for calendar years 2008 to 2023 are posted at http://www.opm.gov/fprac. Previous reports are also available, upon written request to the Committee.

The public is invited to submit material in writing to the Chair on Federal Wage System pay matters felt to be deserving of the Committee's attention. Additional information on these meetings may be obtained by contacting the Committee at Office of Personnel Management, Federal Prevailing Rate Advisory Committee, Room 7H31, 1900 E Street NW, Washington, DC 20415, (202) 606-2858.

DATES: The virtual meeting will be held on January 9, 2025, beginning at 10:00 a.m. (ET).

ADDRESSES: The meeting will convene virtually.

FOR FURTHER INFORMATION CONTACT: Ana Paunoiu, 202-606-2858, or email pay policy@opm.gov.

SUPPLEMENTARY INFORMATION: This meeting is open to the public, with an audio option for listening. This notice sets forth the participation guidelines for the meeting.

Meeting Agenda: The committee meets to discuss various agenda items related to the determination of prevailing wage rates for the Federal Wage System. The committee's agenda is approved one week prior to the public meeting and will be available upon request at that time.

Public Participation: The January 9, 2025, meeting of the Federal Prevailing Rate Advisory Committee is open to the public through advance registration. Public participation is available for the meeting. All individuals who plan to attend the virtual public meeting to listen must register by sending an email to paypolicy@opm.gov with the subject line “January 9, 2025” no later than Tuesday, January 7, 2025.

The following information must be provided when registering:

• Name.

• Agency and duty station.

• Email address.

• Your topic of interest.

Members of the press, in addition to registering for this event, must also RSVP to media@opm.gov by January 7, 2025.

A confirmation email will be sent upon receipt of the registration. Audio teleconference information for participation will be sent to registrants the morning of the virtual meeting.

Office of Personnel Management.
Stephen Hickman,
Federal Register Liaison.

[FR Doc. 2024-30460 Filed 12-19-24; 8:45 am]

BILLING CODE P